DEPARTMENT OF JUSTICE

[OMB Number 1121-0355]

Agency Information Collection Activities; Proposed eCollection eComments Requested; 2023 National Census of Victim Service Providers

AGENCY: Bureau of Justice Statistics, Office of Justice Programs, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. The proposed information was published in the Federal Register on April 5, 2023, allowing a 60-day comment period.

DATES: Comments are encouraged and will be accepted for 30 days until July 13, 2023.

FOR FURTHER INFORMATION CONTACT: If you have comments especially on the estimated public burden or associated response time, suggestions, or need a copy of the proposed information collection instrument with instructions or additional information, please contact: Rachel Morgan, Statistician, Bureau of Justice Statistics, 810 Seventh Street NW, Washington, DC 20531 (email: Rachel.Morgan@usdoj.gov; telephone: 202-598-9237).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1121-0355. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

(1) Type of Information Collection: Reinstatement, with change, of a previously approved collection.

(2) The Title of the Form/Collection: 2023 National Census of Victim Service Providers (NCVSP).

(3) The agency form number, if any, and the applicable component of the Department sponsoring the collection: The form number is N/A. The applicable component within the Department of Justice is the Bureau of Justice Statistics, in the Office of Justice Programs.

(4) Affected public who will be asked or required to respond, as well as a brief abstract: Programs and organizations that have been identified as providing services to victims of crime or abuse will be asked to respond. Abstract: The 2023 NCVSP will be the second administration of this data collection. The NCVSP provides national data on all programs and organizations that served victims of crime or abuse within the year prior to the survey. The NCVSP identifies the size and scope of the victim service provider (VSP) field, including the number of VSPs, where they are located, the number of victims they serve, and information about funding and staffing. Information from the NCVSP provides a sampling frame for follow-up surveys on victim service providers, including BJS's National Survey of Victim Service Providers.

(5) Obligation to Respond: Voluntary.

(6) Total Estimated Number of Respondents: 20,000.

(7) Estimated Time per Respondent: 30 minutes.

(8) Frequency: Once.

(9) Total Estimated Annual Time Burden: 8,750 hours.

(10) Total Estimated Annual Other Costs Burden: $212,012.50.

If additional information is required, contact: John R. Carlson, Department Clearance Officer, United States Department of Justice, Justice Management Division, Policy and Planning Staff, Two Constitution Square, 145 N Street NE, 4W-218, Washington, DC 20530.

Dated: June 7, 2023.
John R. Carlson,
Department Clearance Officer for PRA, U.S. Department of Justice.

[FR Doc. 2023-12585 Filed 6-12-23; 8:45 am]

BILLING CODE 4410-18-P